DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Enforcement, Compliance and Analysis, tel.: 202-622-2490.

SUPPLEMENTARY INFORMATION:

Electronic Availability

The SDN List and additional information concerning OFAC sanctions programs are available on OFAC's website (https://www.treasury.gov/ofac).

Notice of OFAC Actions

On December 19, 2023, OFAC determined that the property and interests in property subject to U.S. jurisdiction of the following persons are blocked under the relevant sanctions authorities listed below.

Individuals

1. ARDAKANI, Gholamreza Ebrahimzadeh (a.k.a. ARDAKANI HOSEIN, Gholamreza Ebrahimzadeh; a.k.a. ARDAKANI, Gholam Reza Ebrahimzadeh; a.k.a. “Denise Lee”), Iran; DOB 20 Aug 1992; nationality Iran; Additional Sanctions Information—Subject to Secondary Sanctions; Gender Male; Passport M34961597 (Iran) expires 27 Sep 2020; National ID No. 4440049443 (Iran) (individual) [NPWMD] [IRGC] [IFSR] (Linked To: ARDAKANI, Hossein Hatefi).

Designated pursuant to section 1(a)(iii) of Executive Order 13382 of June 28, 2005, “Blocking Property of Weapons of Mass Destruction Proliferators and Their Supporters,” 70 FR 38567, 3 CFR, 2005 Comp., p. 170 (“E.O. 13382”), for having provided, or attempted to provide, financial, material, technological or other support for, or goods or services in support of, ARDAKANI, Hossein Hatefi, a person whose property and interests in property are blocked pursuant to E.O. 13382.

2. ARDAKANI, Hossein Hatefi (a.k.a. ARDAKANI, Hosein Hatefi; a.k.a. ARDAKANI, Hussein Hatefi; a.k.a. ARDEKANI, Hossein Hatafi; a.k.a. “Seatha Murugiah”), Tehran, Iran; DOB 21 Sep 1985; POB Ardakan, Iran; nationality Iran; Additional Sanctions Information—Subject to Secondary Sanctions; Gender Male; Passport U34290111 (Iran); National ID No. 4449916581 (Iran) (individual) [NPWMD] [IRGC] [IFSR] (Linked To: ISLAMIC REVOLUTIONARY GUARD CORPS AEROSPACE FORCE SELF SUFFICIENCY JIHAD ORGANIZATION).

Designated pursuant to section 1(a)(iii) of E.O. 13382 for having provided, or attempted to provide, financial, material, technological or other support for, or goods or services in support of, ISLAMIC REVOLUTIONARY GUARD CORPS AEROSPACE FORCE SELF SUFFICIENCY JIHAD ORGANIZATION, a person whose property and interests in property are blocked pursuant to E.O. 13382.

3. DEWANTO, Agung Surya, Indonesia; DOB 17 Apr 1973; nationality Indonesia; Additional Sanctions Information—Subject to Secondary Sanctions; Gender Male; Passport R248877 (Indonesia); alt. Passport M765751 (Indonesia) expires 28 Mar 2008; alt. Passport A2935714 (Indonesia); Identification Number 1398039 (Indonesia) (individual) [NPWMD] [IRGC] [IFSR] (Linked To: SURABAYA HOBBY CV).

Designated pursuant to section 1(a)(iv) of E.O. 13382 for acting or purporting to act for or on behalf of, directly or indirectly, SURABAYA HOBBY CV, a person whose property and interests in property are blocked pursuant to E.O. 13382.

4. MOHAMMADABADI, Mehdi Dehghani (a.k.a. MOHAMMADABADI ABOLGHASEM, Mehdi Dehghani), Tehran, Iran; DOB 23 Sep 1982; nationality Iran; Additional Sanctions Information—Subject to Secondary Sanctions; Gender Male; National ID No. 4433172081 (Iran) (individual) [NPWMD] [IRGC] [IFSR] (Linked To: KAVAN ELECTRONICS BEHRAD LIMITED LIABILITY COMPANY).

Designated pursuant to section 1(a)(iv) of E.O. 13382 for acting or purporting to act for or on behalf of, directly or indirectly, KAVAN ELECTRONICS BEHRAD LIMITED LIABILITY COMPANY, a person whose property and interests in property are blocked pursuant to E.O. 13382.

Entities

1. ARTA WAVE SDN BHD, No. 46-1, Jalan Tasik Utama, 5 Medan, Niaga, Kuala Lumpur 57000, Malaysia; 26-2, Jalan 9/23 E, Taman Danau Kota, Off Jalan Genting Klang, Kuala Lumpur 53300, Malaysia; Rm. 1014, Favor Industrial Centre, 2-6 King Hong Street, Kwai Chung, Hong Kong, China; Additional Sanctions Information—Subject to Secondary Sanctions; Organization Established Date 10 Dec 2018; Commercial Registry Number 1306915A (Malaysia); Registration Number 201801044883 (Malaysia) [NPWMD] [IRGC] [IFSR] (Linked To: ARDAKANI, Hossein Hatefi).

Designated pursuant to section 1(a)(iii) of E.O. 13382 for having provided, or attempted to provide, financial, material, technological or other support for, or goods or services in support of, ARDAKANI, Hossein Hatefi, a person whose property and interests in property are blocked pursuant to E.O. 13382.

2. BASAMAD ELECTRONIC POUYA ENGINEERING LIMITED LIABILITY COMPANY (a.k.a. DYNAMIC ELECTRONIC FREQUENCY ENGINEERING LIMITED LIABILITY COMPANY), No. 63, Unit 4, Shahrara, Patrice Lumumba St., Abshori St., Tehran 1445934911, Iran; Additional Sanctions Information—Subject to Secondary Sanctions; Organization Established Date 20 Jan 2015; National ID No. 14004684489 (Iran); Registration Number 466887 (Iran) [NPWMD] [IRGC] [IFSR] (Linked To: ARDAKANI, Hossein Hatefi).

Designated pursuant to section 1(a)(iv) of E.O. 13382 for being owned or controlled by ARDAKANI, Hossein Hatefi, a person whose property and interests in property are blocked pursuant to E.O. 13382.

3. DIRAC TECHNOLOGY HK LIMITED, Rm 2304 Ho King, Commercial Bldg 2-16, Fa Yuen St., Mongkok, Kowloon, Hong Kong, China; website https://dirac-tech.com/; Additional Sanctions Information—Subject to Secondary Sanctions; Organization Established Date 15 Dec 2021; Registration Number 3112845 (Hong Kong) [NPWMD] [IRGC] [IFSR] (Linked To: ARDAKANI, Hossein Hatefi).

Designated pursuant to section 1(a)(iii) of E.O. 13382 for having provided, or attempted to provide, financial, material, technological or other support for, or goods or services in support of, ARDAKANI, Hossein Hatefi, a person whose property and interests in property are blocked pursuant to E.O. 13382.

4. INTEGRATED SCIENTIFIC MICROWAVE TECHNOLOGY SDN BHD (a.k.a. INTEGRATED SCIENTIFIC MICROWAVE TECHNOLOGY; a.k.a. “ISM TECH”), 1-11 1st Floor, Jalan Padan Perdana 2 Dataran Pandan Prima, Kuala Lumpur 55100, Malaysia; Rm. 1014, Favor Industrial Centre 2-6 Kin Hong Street, Kwai Chung, Hong Kong, China; Additional Sanctions Information—Subject to Secondary Sanctions; Organization Established Date 09 May 2019; Registration Number 201901016612 (Malaysia) [NPWMD] [IRGC] [IFSR] (Linked To: ARDAKANI, Hossein Hatefi).

Designated pursuant to section 1(a)(iii) of E.O. 13382 for having provided, or attempted to provide, financial, material, technological or other support for, or goods or services in support of, ARDAKANI, Hossein Hatefi, a person whose property and interests in property are blocked pursuant to E.O. 13382.

5. KAVAN ELECTRONICS BEHRAD LIMITED LIABILITY COMPANY (a.k.a. KAVAN ELECTRONIC CO., LTD; a.k.a. KAVAN ELECTRONIC COMPANY; a.k.a. KAVAN ELECTRONIC SADR ARIA ENGINEERING LIMITED LIABILITY COMPANY), No. 63, Unit 4, Shahrara, Patrice Lumumba St., Abshori Sharghi St., Tehran 1445934911, Iran; Additional Sanctions Information—Subject to Secondary Sanctions; Organization Established Date 13 Jul 2016; National ID No. 14005997725 (Iran); Registration Number 495080 (Iran) [NPWMD] [IRGC] [IFSR] (Linked To: ARDAKANI, Hossein Hatefi; Linked To: ISLAMIC REVOLUTIONARY GUARD CORPS AEROSPACE FORCE SELF SUFFICIENCY JIHAD ORGANIZATION).

Designated pursuant to section 1(a)(iv) of E.O. 13382 for being owned or controlled by, or acting or purporting to act for or on behalf of, directly or indirectly, ARDAKANI, Hossein Hatefi, a person whose property and interests in property are blocked pursuant to E.O. 13382.

Designated pursuant to section 1(a)(iii) of E.O. 13382 for having provided, or attempted to provide, financial, material, technological or other support for, or goods or services in support of, ISLAMIC REVOLUTIONARY GUARD CORPS AEROSPACE FORCE SELF SUFFICIENCY JIHAD ORGANIZATION, a person whose property and interests in property are blocked pursuant to E.O. 13382.

6. NAVA HOBBIES SDN BHD, Floor 25, Unit 29-25, No. 685, Jalan Damansara, Kuala Lumpur 60000, Malaysia; website https://www.nahb.my/; Additional Sanctions Information—Subject to Secondary Sanctions; Organization Established Date 2022; Registration Number 202201040867 (Malaysia) [NPWMD] [IRGC] [IFSR] (Linked To: ARDAKANI, Hossein Hatefi).

Designated pursuant to section 1(a)(iii) of E.O. 13382 for having provided, or attempted to provide, financial, material, technological or other support for, or goods or services in support of, ARDAKANI, Hossein Hatefi, a person whose property and interests in property are blocked pursuant to E.O. 13382.

7. SAMAN INDUSTRIAL GROUP, West Bound of Azadi Stadium Boulevard, Next to 1 Aftab Street, Tehran, Iran; Additional Sanctions Information—Subject to Secondary Sanctions; Organization Type: Defense activities [NPWMD] [IRGC] [IFSR] (Linked To: ISLAMIC REVOLUTIONARY GUARD CORPS AEROSPACE FORCE SELF SUFFICIENCY JIHAD ORGANIZATION).

Designated pursuant to section 1(a)(iv) of E.O. 13382 for being owned or controlled by, or acting or purporting to act for or on behalf of, directly or indirectly, ISLAMIC REVOLUTIONARY GUARD CORPS AEROSPACE FORCE SELF SUFFICIENCY JIHAD ORGANIZATION, a person whose property and interests in property are blocked pursuant to E.O. 13382.

8. SKYLINE ADVANCED TECNOLOGIES SDN BHD, Suite 18.08, 18th Floor, Plaza Permata, 6 Jalan Kampar, Kuala Lumpur 50400, Malaysia; website https://satech.com.my/; Additional Sanctions Information—Subject to Secondary Sanctions; Organization Established Date 2021; Registration Number 202101041127 (Malaysia) [NPWMD] [IRGC] [IFSR] (Linked To: ARDAKANI, Hossein Hatefi).

Designated pursuant to section 1(a)(iii) of E.O. 13382 for having provided, or attempted to provide, financial, material, technological or other support for, or goods or services in support of, ARDAKANI, Hossein Hatefi, a person whose property and interests in property are blocked pursuant to E.O. 13382.

9. SURABAYA HOBBY CV, Jl. Barata Jaya Xix/57-b, Surabaya, East Java, Indonesia; Jl. Raya Kendangsari Industri No. 2, Kendangsari, KEC, Tenggilis, Mejoyo, Surabaya, East Java, Indonesia; website https://www.surabayahobby.com/; Additional Sanctions Information—Subject to Secondary Sanctions; Identification Number 4242110 (Indonesia) [NPWMD] [IRGC] [IFSR] (Linked To: PISHGAM ELECTRONIC SAFEH COMPANY).

Designated pursuant to section 1(a)(iii) of E.O. 13382 for having provided, or attempted to provide, financial, material, technological or other support for, or goods or services in support of, PISHGAM ELECTRONIC SAFEH COMPANY, a person whose property and interests in property are blocked pursuant to E.O. 13382.

10. TEYF TADBIR ARYA ENGINEERING COMPANY (a.k.a. TEIF TADBIR ARYA; a.k.a. TEYF TADBIR ARIA), Unit 10, No. 1, End of Bahar, Kardan Street, Patrice Street, Tehran 1445964433, Iran; Additional Sanctions Information—Subject to Secondary Sanctions; Organization Established Date 26 Jun 2012; National ID No. 10320792753 (Iran); Registration Number 427320 (Iran) [NPWMD] [IRGC] [IFSR] (Linked To: ARDAKANI, Hossein Hatefi).

Designated pursuant to section 1(a)(iv) of E.O. 13382 for being owned or controlled by ARDAKANI, Hossein Hatefi, a person whose property and interests in property are blocked pursuant to E.O. 13382.

Dated: December 19, 2023.
Bradley T. Smith,
Director, Office of Foreign Assets Control, U.S. Department of the Treasury.

[FR Doc. 2023-28461 Filed 12-26-23; 8:45 am]

BILLING CODE 4810-AL-P